NATIONAL ARCHIVES AND RECORDS ADMINISTRATION

Advisory Committee on the Records of Congress; Meeting

AGENCY: National Archives and Records Administration.

ACTION: Notice of meeting.

SUMMARY: In accordance with the Federal Advisory Committee Act, the National Archives and Records Administration (NARA) announces a meeting of the Advisory Committee on the Records of Congress. The committee advises NARA on the full range of programs, policies, and plans for the Center for Legislative Archives in the Office of Records Services.

DATES: December 4, 2006 from 10 a.m. to 11 a.m.

ADDRESSES: The U.S. Capitol Building, Room H-137, Washington, DC.

FOR FURTHER INFORMATION CONTACT: Richard H. Hunt, Director; Center for Legislative Archives at (202) 357-5350.

SUPPLEMENTARY INFORMATION: Agenda.

Advisory Committee on the Records of Congress Fourth Report.

Update on the Center for Legislative Archives.

Other current issues and new business.

The meeting is open to the public. This notice is published less than 15 calendar days before the meeting because of scheduling difficulties.

Dated: November 22, 2006.
Londell Buckson,
NARA Federal Register Certifying Official.

[FR Doc. 06-9442 Filed 11-22-06; 3:48 pm]

BILLING CODE 7515-01-P